FEDERAL ELECTION COMMISSION

Sunshine Act Notice

AGENCY: Federal Election Commission.

DATE AND TIME: Thursday, June 21, 2012 at 10 a.m.

PLACE: 999 E Street NW., Washington, DC (Ninth Floor).

STATUS: This meeting will be open to the public.

ITEMS TO BE DISCUSSED: Correction and Approval of the Minutes for the Meeting of June 7, 2012.

Draft Advisory Opinion 2012-21: Primerica, Inc.

Audit Division Recommendation Memorandum on the Friends of Todd Young (FOTY) (A11-06).

Audit Division Recommendation Memorandum on the National Council of Farmer Cooperative Co-op/PAC (NCFC) (A11-26).

Management and Administrative Matters.

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220.

Signed:
Shawn Woodhead Werth,
Secretary and Clerk of the Commission.

[FR Doc. 2012-14924 Filed 6-14-12; 4:15 pm]

BILLING CODE 6715-01-P